ENVIRONMENTAL PROTECTION AGENCY

[EPA-R04-OW-2014-0307; FRL-9919-14-Region 4]

Public Water System Supervision Program Revision for the State of Tennessee

AGENCY: U.S. Environmental Protection Agency (EPA).

ACTION: Notice of tentative approval.

SUMMARY: Notice is hereby given that the State of Tennessee is revising its approved Public Water System Supervision Program. Tennessee has adopted the following rules: Ground Water Rule, and Lead and Copper Rule Short-Term Regulatory Revisions and Clarifications. The Environmental Protection Agency (EPA) has determined that Tennessee's rules are no less stringent than the corresponding Federal regulations. Therefore, the EPA is tentatively approving this revision to the State of Tennessee's Public Water System Supervision Program.

DATES: Any interested person may request a public hearing. A request for a public hearing must be submitted by December 12, 2014, to the Regional Administrator at the EPA Region 4 address shown below. The Regional Administrator may deny frivolous or insubstantial requests for a hearing. However, if a substantial request for a public hearing is made by December 12, 2014, a public hearing will be held. If no timely and appropriate request for a hearing is received and the Regional Administrator does not elect to hold a hearing on her own motion, this tentative approval shall become final and effective on December 12, 2014. Any request for a public hearing shall include the following information: The name, address and telephone number of the individual, organization or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8:30 a.m. and 4:30 p.m., Monday through Friday, at the following offices: Tennessee Department of Environment and Conservation, Division of Water Resources, 312 Rosa L. Parks Avenue, William R. Snodgrass Tennessee Tower, Nashville, Tennessee 37243; and the U.S. Environmental Protection Agency Region 4, Safe Drinking Water Branch, 61 Forsyth Street SW., Atlanta, Georgia 30303.

FOR FURTHER INFORMATION CONTACT: Brian Smith, EPA Region 4, Safe Drinking Water Branch, by mail at the Atlanta address given above, by telephone at (404) 562-9845, or by email at smith.brian@epa.gov.

EPA Analysis: On November 10, 2008, the State of Tennessee submitted a request that the Region approve a revision to the State's Safe Drinking Water Act Public Water System Supervision Program to include the authority to implement and enforce the Ground Water Rule. On June 8, 2009, the State of Tennessee submitted a request that the Region approve a revision to the State's Safe Drinking Water Act Public Water System Supervision Program to include the authority to implement and enforce the Lead and Copper Rule Short-Term Regulatory Revisions and Clarifications. For the requests to be approved, the EPA must find the State Rules codified at Tenn. Comp. R. & Regs. 0400-45-01-40 and 0400-45-01-.33, to be no less stringent than the Federal Rules codified at 40 CFR part 141, Subpart S—Ground Water Rule; and Subpart I—Control of Lead and Copper. The EPA reviewed the applications using the Federal statutory provisions (Section 1413 of the Safe Drinking Water Act), Federal regulations (at 40 CFR part 142), State regulations, rule crosswalks, and EPA regulatory guidance to determine whether the requests for revision are approvable. The EPA identified concerns with each application and transmitted comments to Tennessee. Based on these comments, Tennessee submitted revisions to its Ground Water Rule application on February 25, 2013; April 1, 2013; April 19, 2013; and June 24, 2013. Tennessee submitted revisions to its Lead and Copper Rule Short-Term Regulatory Revisions and Clarifications application on November 22, 2013, and January 23, 2014. The EPA has determined that the Tennessee regulations are no less stringent than the corresponding Federal regulations.

EPA Action: The EPA is tentatively approving this revision. If the EPA does not receive a timely and appropriate request for a hearing and the Regional Administrator does not elect to hold a hearing on her own motion, this tentative approval will become final and effective on December 12, 2014.

Authority: Section 1413 of the Safe Drinking Water Act, as amended (1996), and 40 CFR part 142.

Dated: October 23, 2014.
Heather McTeer Toney,
Regional Administrator, Region 4.

[FR Doc. 2014-26732 Filed 11-10-14; 8:45 am]

BILLING CODE 6560-50-P